DEPARTMENT OF HEALTH AND HUMAN SERVICES

Centers for Disease Control and Prevention

Advisory Committee to the Director (ACD), Centers for Disease Control and Prevention (CDC)—Health Disparities Subcommittee (HDS)

Correction: This notice was published in the Federal Register on October 15, 2009, Volume 74, Number 198, Page 52968. The time, place, and public comment period of the ACD, CDC—HDS meeting has changed. The meeting will also be teleconferenced.

Time: 2 p.m.-3:30 p.m.

Place: CDC, 1600 Clifton Road, NE., Atlanta, GA 30333, Building 19, Room 247/248, Global Communication Center. To participate by teleconference, please dial 1-800-369-2112 and enter passcode 4102105.

Status: Open to the public; teleconference access limited only by availability of telephone ports. The public is welcome to participate during the public comments period which is tentatively scheduled from 3 to 3:15 p.m. EDT.

Contact Person for More Information: Walter W. Williams, M.D., M.P.H., Designated Federal Officer, ACD, CDC—HDS, 1600 Clifton Road, NE., M/S E67, Atlanta, Georgia 30333. Telephone 404-498-2310, E-mail: www1@cdc.gov.

The Director, Management Analysis and Services Office, has been delegated the authority to sign Federal Register notices pertaining to announcements of meetings and other committee management activities, for both the Centers for Disease Control and Prevention and the Agency for Toxic Substances and Disease Registry.

Dated: October 22, 2009.
Elaine Baker,
Director, Management Analysis and Services Office, Centers for Disease Control and Prevention.

[FR Doc. E9-26054 Filed 10-27-09; 8:45 am]

BILLING CODE 4163-18-P